DEPARTMENT OF TRANSPORTATION

Federal Aviation Administration

14 CFR Parts 25 and 121

[Docket No. FAA-2004-19412; Amendment Nos 25-116 and 121-306]

RIN 2120-AF77

Miscellaneous Cabin Safety Changes; Correction

AGENCY: Federal Aviation Administration (FAA), DOT.

ACTION: Final rule; correction.

SUMMARY: This document makes a correction to the final rule published in the Federal Register on October 27, 2004 (69 FR 62778). That rule amended airworthiness standards for miscellaneous cabin safety features. This correction is necessary to eliminate any confusion caused by an unnecessary section heading.

DATES: Effective Date: Effective on November 17, 2004.

FOR FURTHER INFORMATION CONTACT: Jeff Gardlin, telephone (425) 227-2136.

Correction

In final rule FR Doc. 04-23862, published on October 27, 2004, (69 FR 62778), make the following correction:

1. On page 62788, in column 3, after paragraph (f), delete the section heading line “§ 25.819 (Amended).”

Issued in Washington, DC on November 9, 2004.
Tony F. Fazio,
Director of the Office of Rulemaking.

[FR Doc. 04-25495 Filed 11-16-04; 8:45 am]

BILLING CODE 4910-13-P